DEPARTMENT OF JUSTICE

Notice of Lodging of Stipulation of Settlement and Judgment Under the Clean Water Act

Notice is hereby given that on June 29, 2007, a Stipulation of Settlement and Judgment (“Stipulation”) in United States v. Icicle Seafoods, Inc. and Evening Star, Inc., Civil Action No. 3:06-cv-00268-JWS, was lodged with the United States District Court for the District of Alaska.

In this action the United States sought civil penalties and injunctive relief pursuant to Section 309 of the Clean Water Act, as amended (“CWA”), 33 U.S.C. 1319, for alleged violations of the National Pollutant Discharge Elimination System permit (“Permit”) issued by the Environmental Protection Agency (“EPA”) for discharges from the M/V Northern Victor, to Udagak Bay, Alaska. Defendants, Icicle Seafoods, Inc. and its wholly-owned subsidiary, Evening Star, Inc., own and operate the M/V Northern Victor. The Stipulation would resolve this action with a civil penalty payment of $900,000. Defendants have conducted a removal of the inactive, underwater seafood waste pile in Udagak Bay created by the operation of the M/V Northern Victor prior to their acquisition of the vessel, as the Permit required. The Stipulation preserves for future resolution any claims that the United States or EPA may have vis-a-vis the waste pile to which the M/V Northern Victor actively discharges other than those exceedances of the 1.5-acre zone-of-deposit limitation of the Permit that occurred through June 10, 2005.

The Department of Justice will receive for a period of thirty (30) days from the date of this publication comments relating to the Stipulation. Comments should be addressed to the Assistant Attorney General, Environment and Natural Resources Division, and either e-mailed to pubcomment-ees.enrd@usdoj.gov or mailed to P.O. Box 7611, U.S. Department of Justice, Washington, DC 20044-7611, and should refer to United States v. Icicle Seafoods, Inc. and Evening Star, Inc., D.J. Ref. #90-5-1-1-07395/1.

The Stipulation may be examined at the offices of the Environment Division, 801 B Street, Anchorage, Alaska 99501 [Contact: Lorraine Carter (907-271-5452)], and at U.S. EPA Region 10, Office of Water, 1200 Sixth Avenue, Seattle, Washington 98101 [Contact: Margo Young (206) 553-1287)]. During the public comment period, the Stipulation may also be examined on the following Department of Justice Web site: http://www.usdoj.gov/enrd/Consent_Decrees.html. A copy of the Stipulation may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $20.00 (25 cents per page reproduction cost) payable to the U.S. Treasury or, if by e-mail or fax, forward a check in that amount to the Consent Decree Library at the address recited above.

Robert E. Maher, Jr.,
Assistant Section Chief, Environmental Enforcement Section, Environment and Natural Resources Division.

[FR Doc. 07-3371 Filed 7-10-07; 8:45 am]

BILLING CODE 4410-15-M